DEPARTMENT OF THE INTERIOR

Bureau of Land Management

[WY-D04-1430-ES; WYW-167587]

Notice of Realty Action: Recreation and Public Purposes Act Classification of Public Lands in Sweetwater County, Wyoming

AGENCY: Bureau of Land Management, Interior.

ACTION: Notice of Realty Action.

SUMMARY: The Bureau of Land Management (BLM) has examined and found suitable for classification for lease and/or conveyance to the Sweetwater County Fire District #1 under the provisions of the Recreation and Public Purposes (R&PP) Act, as amended, 20 acres of public land in Sweetwater County, Wyoming. The Sweetwater County Fire District #1 proposes to use the land for a training facility and fire station.

DATES: Interested parties may submit written comments until September 28, 2009.

ADDRESSES: Mail written comments to the Field Manager, Bureau of Land Management, Rock Springs Field Office, 280 Highway 191 North, Rock Springs, Wyoming 82901.

FOR FURTHER INFORMATION CONTACT: Carol Montgomery, Realty Specialist, Bureau of Land Management, Rock Springs Field Office, at (307) 352-0344.

SUPPLEMENTARY INFORMATION: The following described public land in Sweetwater County, Wyoming, has been examined and found suitable for classification for lease and/or conveyance under the provisions of the R&PP Act, as amended, (43 U.S.C. 869 et seq.):

Sixth Principal Meridian

T. 19 N., R. 105 W.,

Sec. 4, S½NW¼SE¼.

The area described contains 20 acres, more or less, in Sweetwater County.

In accordance with the R&PP Act, the Sweetwater County Fire District #1 has filed an R&PP application and plan of development in which it proposes to develop the above described land to construct a proposed training facility and fire station for the purpose of meeting the fire protection needs for the community of Rock Springs. The proposed project will include a parking lot, training tower, and fire station. Additional detailed information pertaining to this application, plan of development, and site plan is in case file WYW167587, located in the Bureau of Land Management (BLM) Rock Springs Field Office at the above address. The land is not needed for any Federal purpose. Lease and/or conveyance is consistent with the BLM Green River Resource Management Plan dated August 8, 1997, and would be in the public interest. The Sweetwater County Fire District #1 has not applied for more than the 640-acre limitation for non-recreation public uses in a year and has submitted an application in compliance with the regulations at 43 CFR 2741.4(b). The patent or lease, if issued, will be subject to the provisions of the R&PP Act and applicable regulations of the Secretary of the Interior, and will contain the following terms, conditions, and reservations:

1. Provisions of the R&PP Act, including, by not limited to, the terms required by 43 CFR 2741.9.

2. A right-of-way thereon for ditches or canals constructed by the authority of the United States, Act of August 30, 1890 (43 U.S.C. 945).

3. All minerals, together with the right to prospect for, mine, and remove the minerals under applicable laws and regulations established by the Secretary of the Interior shall be reserved to the United States.

4. Lease and/or patent of the lands shall be subject to all valid existing rights of record documented on the official public land records at the time of lease/patent issuance.

5. Any other reservations that the authorized officer deems appropriate.

6. An appropriate indemnification clause protecting the United States from claims arising out of the lease/patentee's use, occupancy, or operations on the property.

Upon publication of this notice in the Federal Register, the lands will be segregated from all other forms of appropriation under the public land laws, including the general mining laws, except for lease and/or conveyance under the R&PP Act.

Classification Comments: Interested parties may submit comments involving the suitability of the land for a fire facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision or any other factor not directly related to the suitability of the land for a fire facility.

Confidentiality of Comments: Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager—BLM Rock Springs Field Office will be considered properly filed. Electronic mail, facsimile or telephone comments will not be considered.

Any adverse comments will be reviewed by the BLM State Director, who may sustain, vacate or modify this realty action. In the absence of any adverse comments, the classification of the land described in this notice will become effective October 13, 2009.

Authority: 43 CFR 2740.

Lance Porter,
Field Manager.

[FR Doc. E9-19417 Filed 8-12-09; 8:45 am]

BILLING CODE 4310-22-P